DEPARTMENT OF COMMERCE

Foreign-Trade Zones Board

[B-28-2022]

Foreign-Trade Zone (FTZ) 241—Fort Lauderdale, Florida, Authorization of Production Activity, Almod Diamonds Ltd., Inc. (Jewelry, Precious and Semi-Precious Stones, and Pearls), Miramar, Florida

On June 28, 2022, Almod Diamonds Ltd., Inc., submitted a notification of proposed production activity to the FTZ Board for its facility within FTZ 241, in Miramar, Florida.

The notification was processed in accordance with the regulations of the FTZ Board (15 CFR part 400), including notice in the Federal Register inviting public comment (87 FR 40484, July 7, 2022). On October 26, 2022, the applicant was notified of the FTZ Board's decision that no further review of the activity is warranted at this time. The production activity described in the notification was authorized, subject to the FTZ Act and the FTZ Board's regulations, including Section 400.14.

Dated: October 26, 2022.
Andrew McGilvray,
Executive Secretary.

[FR Doc. 2022-23637 Filed 10-28-22; 8:45 am]

BILLING CODE 3510-DS-P